COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and services to be furnished by nonprofit agencies employing persons who are blind or have other severe disabilities.

DATES: Effective Date: June 22, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION: Additions: On 3/6/2009 and 3/27/2009, the Committee for Purchase From People Who Are Blind or Severely Disabled published notice (74 FR 9784 and 74 FR 13413-13414, respectively) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following products and services are added to the Procurement List:

Products

NSN: 8415-01-568-1023—NAPE Pad, Ballistic.

NSN: 8415-01-568-1028—NAPE Pad, Ballistic.

NPA: Industries of the Blind, Inc., Greensboro, NC.

NPA: Alabama Industries for the Blind, Talladega, AL.

NPA: Susquehanna Association for the Blind and Visually Impaired, Lancaster, PA.

NPA: Lions Volunteer Blind Industries, Inc., Morristown, TN.

Contracting Activity: Dept of the Army, XR W2DF RDECOM ACQ CTR Natick, Natick, MA.

Coverage: C-list for the total requirements of the U.S. Army.

Services

Service Type/Location: Administrative Services, HUD Birmingham Field Office, 950 22nd St North, Birmingham, AL.

NPA: Tommy Nobis Enterprises, Inc., Marietta, GA.

Contracting Activity: Department of Housing and Urban Development, Chicago, IL.

Service Type/Location: Switchboard Operation, Tuskegee VA Medical Center, 2400 Hospital Road, Tuskegee, AL.

NPA: Bobby Dodd Institute, Inc., Atlanta, GA.

Contracting Activity: Department of Veterans Affairs, Augusta, GA.

Barry S. Lineback,
Director, Business Operations.

[FR Doc. E9-11974 Filed 5-21-09; 8:45 am]

BILLING CODE 6353-01-P